DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before December 16, 2019.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on November 7, 2019.
Donald P. Burger,
Chief, General Approvals and Permits Branch.

Application No. | Applicant | Regulation(s) affected | Nature of the special permits thereof
SPECIAL PERMITS DATA—Granted
11725-M | Thales Alenia Space Italia Spa | 172.101(j), 173.301(f), 173.302a(a)(1), 173.304a(a)(2) | To modify the special permit to add additional 2.3 hazmat.
15335-M | SEASTAR CHEMICALS INC | 173.158(f)(3) | To modify the special permit to reference new, improved testing of the package.
20232-M | LEIDOS BIOMEDICAL RESEARCH, INC |  | To modify the special permit to authorize additional origination and destination locations.
20255-M | Covanta Environmental Solutions, Llc |  | To modify the special permit to authorize air and vessel transportation.
20274-M | BOLLORE LOGISTICS USA INC | 172.101(j), 172.300, 172.400, 173.301, 173.302a(a)(1), 173.304a(a)(2) | To modify the special permit to authorize transportation to/from any destination sites to either of the assembly locations.
20274-M | Bollore Logistics USA Inc | 172.101(j), 172.300, 172.400, 173.301, 173.302a(a)(1), 173.304a(a)(2) | To modify the special permit to include reference to a new Competent Authority Approval from the German Competent Authority.
20432-M | Procyon-alpha Squared, Inc | 172.200, 172.300, 172.400, 173.185(f) | To modify the special permit to authorize the use of QR codes for marking.
20495-M | Tk Services Inc | 173.54(a), 173.54(d) | To modify the special permit to authorize carriers other than those contracted to the holder of the permit.
20549-M | CELLBLOCK FCS, LLC | 172.400, 172.700(a), 172.102(c)(1), 172.200, 172.300 | To modify the special permit to authorize the transportation in commerce of larger batteries (Wh > 300) without shipping papers, labeling, marking and training.
20567-M | OMNI TANKER PTY. LTD | 107.503(b), 107.503(c), 172.102(c)(3), 172.203(a), 173.241, 173.242, 173.243, 178.345-1, 178.347-1, 178.348-1, 180.405, 180.413(d) | To modify the special permit to authorize additional cargo tank designs.
20621-M | Sigma-aldrich Co. Llc | 173.56(b), 173.224(c), 173.225(b) | To modify the special permit to authorize the use of a higher density expandable foam and to authorize a smaller package.
20858-N | Cryoconcepts, Lp | 173.304a(a)(1), 173.306(a) | To authorize the transportation in commerce of materials as limited quantities that are not otherwise authorized for the exception.
20900-N | Ametek Ameron, Llc | 173.56(b), 173.302(a) | To authorize the manufacture, mark, sale, and use of non-DOT specification cylinders similar to DOT 3HT.
20907-N | VERSUM MATERIALS, INC | 171.23(a), 171.23(a)(3) | To authorize the transportation in commerce of dichlorosilane in non-DOT specification cylinders.
20910-N | CELLBLOCK FCS, LLC | 172.200, 172.300, 172.500, 172.400, 172.700(a) | To authorize the manufacture, mark, sale, and use of UN 4G packaging for the transportation of damaged or defective lithium ion cells and batteries, including cells or batteries contained in equipment, without being subject to certain hazard communication requirements.
20931-N | DEPARTMENT OF DEFENSE US ARMY MILITARY SURFACE DEPLOYMENT & DISTRIBUTION COMMAND | 173.185(e) | To authorize the transportation in commerce of low production and prototype lithium ion batteries in non spec packaging (spacecraft component).
20953-N | Triad National Security, Llc | 173.185(a) | To authorize the transportation in commerce of low production lithium ion batteries contained in equipment (spacecraft) in non-specification packaging.
SPECIAL PERMITS DATA—Denied
11900-M | Goldstar Manufacturing L.l.c | 173.4(a)(1)(iii), 173.4(a)(9), 173.4(a)(10) | To modify the special permit to authorize an additional 6.1 hazmat.
20917-N | Goldstar Manufacturing L.l.c | 173.4(a)(1)(iii), 173.4(a)(9), 173.4(a)(10) | To authorize the transportation in commerce of methyl isothiocyanate under the small quantities exception.
20927-N | MELROSE PYROTECHNICS, INC | 172.504(a) | To authorize the transportation in commerce of Division 1.3G fireworks without requiring the motor vehicle containing the fireworks to be placarded.
SPECIAL PERMITS DATA—Withdrawn

[FR Doc. 2019-24712 Filed 11-13-19; 8:45 am]

BILLING CODE 4909-60-P